DEPARTMENT OF STATE

[Public Notice 3749]

Culturally Significant Objects Imported for Exhibition Determinations: “Testemunhos do Judaismo em Portugal/Signs of Judaism in Portugal”

DEPARTMENT: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that the objects to be included in the exhibit “Testemunhos do Judaismo em Portugal /Signs of Judaism in Portugal,” imported from abroad for the temporary exhibition without profit within the United States, are of cultural significance. These objects will be imported pursuant to loan agreements with foreign lenders. I also determine that the temporary exhibition or display of the exhibit objects at the Yeshiva University Museum of New York, NY, from on about August 16, 2001, to on about November 11, 2001 and possible additional venues as yet to be determined, is in the national interest. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW., Room 700, Washington, DC 20547-0001.

Dated: August 2, 2001.
Brian J. Sexton,
Deputy Assistant Secretary for Professional Exchanges, Bureau of Educational and Cultural Affairs, Department of State.

[FR Doc. 01-19745 Filed 8-3-01; 8:45 am]

BILLING CODE 4710-08-P